FEDERAL COMMUNICATIONS COMMISSION

47 CFR Part 73

[DA 03-2704]

Radio Broadcasting Services; Birmingham, AL

AGENCY: Federal Communications Commission.

ACTION: Correcting amendments.

SUMMARY: This document editorially amends 47 CFR 73.202(b), the Table of FM Allotments for Birmingham, Alabama, which was published in the Federal Register of Friday, September 19, 2003, (68 FR 54855). The Federal Communications Commission published in the Federal Register, of September 19, 2003, a document which removed Channel 295C and added Channel 295C0 at Birmingham, Alabama. See 68 FR 54855. This document amends 47 CFR 73.202(b), the Table of FM Allotments under Alabama, by removing Channel 295C0 at Birmingham, Alabama because Channel 295C was reallotted to Homewood, Alabama in an earlier rulemaking proceeding, MM Docket No. 01-104. See 68 FR 33654, published June 5, 2003.

DATES: Effective on September 28, 2004.

FOR FURTHER INFORMATION CONTACT: Rolanda F. Smith, Media Bureau, (202) 418-2180.

SUPPLEMENTARY INFORMATION:

Background

The Federal Communications Commission published a document in the Federal Register of September 19, 2003, (68 FR 54855), which amended § 73.202(b), the FM Table of Allotments under Alabama by removing Channel 295C and adding Channel 295C0 at Birmingham. However, Channel 295C at Birmingham was reallotted to Homewood, Alabama in a prior rulemaking proceeding. See 68 FR 33654, published June 5, 2003.

Need for Correction

Part 73 of title 47 of the Code of Federal Regulations currently contains under § 73.202(b), the FM Table of Allotments under Alabama Channel 295C0 at Birmingham, therefore Channel 295C0 at Birmingham needs to be removed from the Code of Federal Regulations.

List of Subjects in 47 CFR Part 73

Radio, Radio broadcasting.

Accordingly, 47 CFR part 73 is amended as follows:

PART 73—RADIO BROADCAST SERVICES

1. The authority citation of part 73 continues to read as follows:

Authority: 47 U.S.C. 54, 303, 334 and 336.

§ 73.202 [Amended]

2. Section 73.202(b), the Table of FM Allotments under Alabama, is amended by removing Channel 295C0 at Birmingham.

Federal Communications Commission.
John A. Karousos,
Assistant Chief, Audio Division, Media Bureau.

[FR Doc. 04-21725 Filed 9-27-04; 8:45 am]

BILLING CODE 6712-01-P